DEPARTMENT OF TRANSPORTATION

Federal Aviation Administration

High Density Traffic Airports; slot Allocation and Transfer Method

AGENCY: Federal Aviation Administration (FAA), DOT.

ACTION: Notice of waiver of the slot usage requirement.

SUMMARY: This action announces a waiver of the minimum slot usage requirement for slots and slot exemptions at the three high density traffic airports for the period March 19, 2003 through October 25, 2003.

EFFECTIVE DATE: April 18, 2003.

FOR FURTHER INFORMATION CONTACT: Lorelei Peter, Operations and Air Traffic Law Branch, Regulations Division, Office of the Chief Counsel, AGC-220, Federal Aviation Administration, 800 Independence Avenues, SW., Washington, DC 20591; telephone number 202-267-3134.

SUPPLEMENTARY INFORMATION:

Background

The High Density Traffic Airports Rule, or “High Density rule,” 14 CFR part 93, subpart K, was promulgated in 1968 to reduce delays at five congested airports: John F. Kennedy International Airport (JFK), LaGuardia, O'Hare International Airport (O'Hare), Ronald Reagan Washington National airport (Reagan National) and Newark International Airport (33 FR 17896; December 3, 1968). The regulation limits the number of instrument flight rule (IFR) operations at each airport, during certain hours of the day. It provides for the allocation to carriers of operational authority, in the form of a “slot,” for each IFR takeoff or landing during a specific 30- or 60-minute period. The restrictions at Newark were lifted in the early 1970s. The restrictions at O'Hare were lifted in 2002.

Statement of Policy

The regulations governing slots and slot allocation provide that any slot not utilized at least 80 percent of the time over a 2-month period shall be recalled by the FAA (14 CFR 93.227(a)). Additionally, paragraph (j) of that section provides that the Chief Counsel may waive the slot usage requirement in the event of a highly unusual and unpredictable condition that is beyond the control of the slot holder and exists for more than nine days (14 CFR 93.227(j)). These two provisions are also applicable to slot exemptions.

Over the last several weeks, the FAA has received inquiries from several domestic and foreign carriers concerning applicability of the slot usage requirements in view of the military action in Iraq and its impact on the airline industry. By letter dated March 28, 2003, the Air Transport Association of America (ATA) requested that the FAA waive the minimum slot usage requirements for the period March 19, 2003 through December 31, 2003. Midway Airlines endorsed this request. A number of countries with slot controlled airports have suspended their respective usage requirements for part or all of the period from mid-March through the end of the summer scheduling season, October 2003.

ATA and individual carriers state that many carriers have taken measures to adjust both domestic and international flight schedules in response to decrease passenger demand and increased operating costs. These measure include the suspension or cancellation of some flights, especially those in markets where a carrier operates multiple services, changes in frequency, changes to equipment type on certain routes, and relaxation of certain fare restrictions in order to stimulate passenger bookings. These changes were implemented by certain carriers on a system-wide basis and not limited to operations at the high density traffic airports. Many of these changes to date are on a month-to-month basis as an immediate reaction to conditions following the onset of the war in Iraq. It is likely, however, that carriers will need to continue to adjust capacity to meet demand over the next few months and this may preclude the full utilization of allocated slots and slot exemptions for a number of carriers.

The FAA finds that the current operating conditions described above meet the criteria for granting a waiver from the minimum slot usage requirement set forth in 14 CFR Section 93.227(a). The FAA will waive the minimum usage requirement for all slots and slot exemptions at the high density traffic airports for the period of March 19, 2003 through April 30, 2003. This covers the initial period following the beginning of the military action in Iraq when many carriers cancelled or adjusted flights. Carriers are not required to provide the FAA with advance notice of underutilized slots or slot exemption during that period.

In addition, the FAA will waive the minimum usage requirement for all slots and slot exemptions for the period of May 1, 2003 through October 25, 2003, provided that the carrier temporarily returns to the FAA any slot or slot exemption that will not be used by the carrier. Thus, if a carrier has not scheduled a slot or slot exemption for at least 80 percent usage, then the carrier must return the slot in advance for the portion of time that it will not be using the slot, i.e. for entire summer season, or for two weeks, or for certain frequencies, etc. or the usage requirement will apply. Any carrier that chooses to temporarily return slots or slot exemptions to the FAA between now and October 25, 2003, may do so without jeopardizing the permanent loss of the slots or slot exemptions.

In the bi-monthly slot usage reports required by 14 CFR 93.227(i), slot holders/operators should indicate whether a flight was scheduled to operate in an allocated slot or slot exemption and indicate the flight actually operated. Any slots or slot exemptions covered by his waiver should not be listed as flown unless a flight actually operated.

There may be some carriers seeking to add service or make changes to scheduled flight times that affect their slot holdings at an airport. Carriers are reminded that the slot transfer provisions may be used to transfer unused slots to other carriers and that slots may be returned to the FAA for temporary reallocation. We encourage carriers to use existing regulatory mechanisms rather than rely on this waiver. Slot exemptions cannot be sold, leased or otherwise transferred. If carriers determine that they will not use their slot exemptions, they are encouraged to return them to the FAA so that they may be reallocated to other eligible carriers. The FAA intends to use temporarily returned slots to accommodate short-term requests for additional slots or schedule adjustments. In order to meet as many of those needs as possible, the FAA requests that carriers returning slots or slot exemptions under this waiver provide as much advance notice as practical.

Also, the FAA notes that international slots are not subject to the same minimum slot usage requirements as domestic slots. The slot regulations provide that international slots must be returned to the FAA if they will not be used for more than a 2-week period. (See CFR 93.217(3)). Historic allocation priority for subsequent scheduling seasons is granted based on actual operations. For the period of March 19, 2003 through October 25, 2003, the FAA will treat as operated any international slot allocated during that period provided that it was either actually operated by the carrier or returned to the FAA for the period it will not be used. Carriers meeting these conditions will be granted historic status for the corresponding winter 2003 and summer 2004 scheduling seasons.

Lastly, the FAA will continue to monitor operations at the high density traffic airports during the period of this waiver. Carriers are advised to contact the FAA on an individual basis under the provisions of 14 CFR 93.227(j) if further relief is necessary beyond the duration of this policy.

Issued in Washington, DC on April 18, 2003.
James W. Whitlow,
Deputy Chief Counsel.

[FR Doc. 03-10032 Filed 4-18-03; 12:39 pm]

BILLING CODE 4910-13-M